DEPARTMENT OF EDUCATION

Notice of Proposed Information Collection Requests

AGENCY: Department of Education.

ACTION: Comment Request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before April 18, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: February 11, 2011.
Darrin A. King,
Director, Information Collection Clearance Division, Regulatory Information Management Services, Office of Management.

Office of Special Education and Rehabilitative Services

Type of Review: Revision.

Title of Collection: Annual Performance Report of Independent Living for Older Individuals Who are Blind.

OMB Control Number: 1820-0608.

Agency Form Number(s): ED(RSA)-7-OB FORM.

Frequency of Responses: Annually.

Affected Public: Businesses or other for-profit; State, Local, or Tribal Government, State Educational Agencies or Local Educational Agencies.

Total Estimated Number of Annual Responses: 56.

Total Estimated Number of Annual Burden Hours: 446.

Abstract: This data collection instrument is being submitted to obtain approval for information collection on the Independent Living Services For Older Individuals Who Are Blind program. Through this program, grants are made to states to support services for individuals age 55 or older whose severe visual impairment makes competitive employment difficult to obtain but for whom independent living goals are feasible. This data will be used to evaluate and construct a profile for the program nationwide. The respondents will be the managers of the Independent Living Services For Older Individuals Who Are blind program in each of the 56 states and territories. The revisions to this instrument consist of two additional items in Part I to capture the amount of other federal funds made available to the program, and the carryover for those funds. In Part III, the order of requested information was rearranged to avoid double counting of consumers in the race and ethnicity categories; an item was added to capture the number of consumers served who are homeless; and items were added to capture the number of consumers referred from nursing homes, assisted living facilities, government/social service agencies, and self referrals. In Part IV, section C was revised to omit “assistive technology” and avoid the overlap with section B—specifically B2 and C2 which asked for the same information. The word “regained” was changed to “maintained” or “gained” wherever it appeared in the document as appropriate. Finally, in Part VI, we added language to link the information requested to that already provided in Part IV, and added items to capture the number of consumers who died while receiving services.

Copies of the proposed information collection request may be accessed from http://edicsweb.ed.gov, by selecting the “Browse Pending Collections” link and by clicking on link number 4519. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-3488 Filed 2-15-11; 8:45 am]

BILLING CODE 4000-01-P